DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, October 13, 2010, 7 p.m. to October 14, 2010, 5 p.m., Radisson National Airport, 2020 Jefferson Davis Highway, Arlington, VA 22202 which was published in the Federal Register on September 16, 2010, 179 FR 56551.

The meeting location has changed. The meeting will be held at the Hilton Crystal City at Washington Reagan National Airport, 2399 Jefferson Davis Highway in Arlington, VA 22202. The meeting is closed to the public.

Dated: October 7, 2010.
Jennifer S. Spaeth,
Director, Office of Federal Advisory Committee Policy.

[FR Doc. 2010-26183 Filed 10-15-10; 8:45 am]

BILLING CODE 4140-01-P